DEPARTMENT OF ENERGY

Federal Energy Regulatory Commission

[Docket Nos. EC06-90-000, et al.]

General Electric Capital Corporation, et al.; Electric Rate and Corporate Filings

March 10, 2006.

The following filings have been made with the Commission. The filings are listed in ascending order within each docket classification.

1. General Electric Capital Corporation

[Docket No. EC06-90-000]

Take notice that on March 6, 2006, General Electric Capital Corporation (GECC or Applicant) submitted an application pursuant to section 203(a)(2) of the Federal Power Act for authorization for the indirect acquisition of interests in an electric utility holding company. Applicant has requested authorization to acquire a 99% common equity interest (Transaction) in East Coast Power, L.L.C. (East Coast Power) from GS Linden Power Holdings, L.L.C. (GS Linden or Seller). Applicant states through its GE Energy Financial Services unit and related subsidiaries, and Seller, through East Coast Power, are currently joint owners of a 1,034.9 MW (nameplate) generating facility (Facility) located in Linden, New Jersey. Through the Transaction, Applicant explains it will acquire all of Seller's indirect interests in the Facility. The Facility is a qualifying facility (QF) under the Public Utility Regulatory Policies Act of 1978 (PURPA).

Comment Date: 5 p.m. Eastern Time on March 27, 2006.

2. New York Independent System Operator, Inc.

[Docket No. ER04-449-012]

Take notice that on November 30, 2005, the New York Independent System Operator, Inc. and the New York Transmission Owners submitted a schedule for the continuation of stakeholder discussions in compliance with the Commission's August 6, 2004 Order Conditionally Accepting Large Generator Interconnection Procedures and Large Generator Interconnection Agreement.

Comment Date: 5 p.m. Eastern Time on March 24, 2006.

3. Texas Eastern Transmission, LP

[Docket No. IN05-4-001]

Take notice that on February 27, 2006, Texas Eastern Transmission, LP (Texas Eastern) submitted a compliance filing pursuant to Texas Eastern Transmission LP, 110 FERC ¶ 61,188 (2005), issued on February 28, 2005, in Docket Nos. IN05-4-000.

Texas Eastern states that copies of the filing were served on parties on the official service list in the above-captioned proceedings, as well as all affected customers of Texas Eastern and interested state commissions.

Comment Date: 5 p.m. Eastern Time on March 17, 2006.

4. Texas Eastern Transmission, LP

[Docket No. IN05-4-002]

Take notice that on March 3, 2006, Texas Eastern Transmission, LP (Texas Eastern) submitted a supplemental compliance filing pursuant to the Commission's order issued on February 28, 2005, 110 FERC ¶ 61,188 (2005), in Docket Nos. IN05-4-000.

Texas Eastern states that copies of the filing were served on parties on the official service list in the above-captioned proceedings, as well as all affected customers of Texas Eastern and interested state commissions.

Comment Date: 5 p.m. Eastern Time on March 17, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-3890 Filed 3-16-06; 8:45 am]

BILLING CODE 6717-01-P